Title 3—

The President

Proclamation 8284 of August 28, 2008

National Days of Prayer and Remembrance, 2008

By the President of the United States of America

A Proclamation

During National Days of Prayer and Remembrance, we pay special tribute to the thousands of innocent victims who died on September 11, 2001. Our Nation honors the brave citizens, service members, police officers, and firefighters who heroically responded in the face of terror. On these important days, we reflect on the terrible events of September 11, 2001, and lift the victims and their families in our prayers.

Our Nation will never forget the individuals who lost their lives in New York, Pennsylvania, and at the Pentagon. America remains inspired by the countless acts of kindness and sacrifice we saw that day—fearless rescuers who rushed toward danger, a beloved priest who died helping others, two office workers who carried a disabled person 68 floors to safety.

We also pray for the safety and success of the members of our Armed Forces now serving freedom's cause. We seek God's grace on their families, and commit to Heaven's care those brave men and women He has called home. We ask the Almighty to watch over America and pray for His providence and continued blessings on our country. May He always guide the United States of America. As we defend our country against its enemies, we pray for help in protecting the gift of freedom from those who seek to destroy it, and we ask the Almighty to strengthen all those securing liberty on distant shores.

NOW, THEREFORE, I, GEORGE W. BUSH, President of the United States of America, by virtue of the authority vested in me by the Constitution and laws of the United States, do hereby proclaim Friday, September 5, through Sunday, September 7, 2008, as National Days of Prayer and Remembrance. I ask that the people of the United States and their places of worship mark these National Days of Prayer and Remembrance with memorial services, the ringing of bells, and evening candlelight remembrance vigils. I also invite all people across the world to share in these Days of Prayer and Remembrance.

IN WITNESS WHEREOF, I have hereunto set my hand this twenty-eighth day of August, in the year of our Lord two thousand eight, and of the Independence of the United States of America the two hundred and thirty-third.

[FR Doc. E8-20457

Filed 8-29-08; 8:45 am]

Billing code 3195-01-P